DEPARTMENT OF STATE

[Public Notice: 9485]

U.S. Department of State Advisory Committee on Private International Law: Public Meeting on Micro-, Small-, and Medium Sized Enterprises

The Office of the Assistant Legal Adviser for Private International Law, Department of State, hereby gives notice that the micro-, small-, and medium sized enterprises (MSMEs) study group of the Advisory Committee on Private International Law (ACPIL) will hold a public meeting. The ACPIL MSME Study Group will meet to discuss the next session of the UNCITRAL MSMEs Working Group, scheduled for April 4-8 in New York. This is not a meeting of the full Advisory Committee.

UNCITRAL has established a working group aimed at reducing the legal obstacles faced by MSMEs throughout their life cycle, and in particular those in developing countries. UNCITRAL further directed that the work should start with a focus on the legal issues surrounding the simplification of incorporation. At its upcoming session, the UNCITRAL MSME Working Group will consider draft recommendations on key principles on business registration (UN Doc. A/CN.9/WG.I/WP.93) and a draft model law on a simplified business entity (UN Doc. A/CN.9/WG.I/WP.89). The draft texts, along with the reports of earlier sessions of the Working Group are available at http://www.uncitral.org/uncitral/en/index.html.

Time and Place: The meeting of the ACPIL MSME Study Group will take place on Thursday March 31, from 10 a.m. to 12:00 p.m. EDT at the U.S. Department of State, Harry S. Truman Building, 2201 C. Street NW., Room 5426. Participants should arrive at the C Street entrance by 9:45 a.m. for visitor screening. Participants will be met at the C Street entrance and will be escorted to the conference room. Persons arriving later will need to make arrangements for entry using the contact information provided below. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than February 1. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS- D) database. Please see the Security Records System of Records Notice (State-36) at https://foia.state.gov/_docs/SORN/State-36.pdf for additional information.

Dated: March 9, 2016.
Michael J. Dennis,
Attorney-Adviser, Office of Private International Law, Office of the Legal Adviser, U.S. Department of State.

[FR Doc. 2016-06057 Filed 3-16-16; 8:45 am]

BILLING CODE 4710-08-P